DEPARTMENT OF TRANSPORTATION

Federal Highway Administration

Rural Safety Innovation Program

AGENCY: Federal Highway Administration (FHWA), (DOT).

ACTION: Notice of solicitation for applications to enter into agreements with the U.S. Department of Transportation (DOT or the “Department”) for funding to support qualified Rural Safety Innovation Program projects.

SUMMARY: The goal of the Rural Safety Innovation Program is to improve rural road safety by assisting rural communities in addressing highway safety problems and by providing rural communities the opportunity to compete for project funding to address these problems. The program will encourage States and rural communities to develop creative, locally crafted solutions to roadway safety problems, document their efforts and outcomes, and share the results with other communities across the country.

Through the Rural Safety Innovation Program, the Department aims to heighten awareness and interest in rural safety issues, and promote the benefits of rural safety countermeasures which can reduce rural crashes and fatalities nationwide. By providing technical assistance and best practice guidance from the program we will give States and rural road owners better tools to improve road safety in their communities.

The primary objectives of the Rural Safety Innovation Program are to:

i. Improve safety on local and rural roads with innovative approaches in which rural communities develop and design local solutions to their roadway safety problems.

ii. Provide best practices and lessons learned on innovative safety technologies to assist local and rural road owners and operators in the development and implementation of infrastructure-based rural safety countermeasures that complement behavioral safety efforts.

iii. Promote national awareness and interest in addressing rural safety issues.

iv. Promote the use of Intelligent Transportation Systems (ITS) technologies to improve safety on rural roads.

DATES: Applications must be received on or before April 14, 2008. Proposals for applications selected for potential funding will be due in June 2008.

ADDRESSES: Interested parties should submit Applications to Mr. John E. Dewar, State and Local Programs Team Leader, Federal Highway Administration (FHWA), Office of Safety, 1200 New Jersey Avenue, SE., Washington, DC 20590, electronically to ruralsafetyinitiative@dot.gov.

FOR FURTHER INFORMATION CONTACT: Mr. John E. Dewar, Federal Highway Administration, Office of Safety, (202) 366-2218, john.dewar2@dot.gov, 1200 New Jersey Avenue, SE., Washington, DC 20590. Office hours are from 8:30 a.m. to 5 p.m., e.t., Monday through Friday, except Federal holidays.

SUPPLEMENTARY INFORMATION:

Electronic Access and Filing: An electronic copy of this document may be downloaded from the Office of the Federal Register's home page at: http://www.archives.gov and the Government Printing Office's Web page at: http://www.gpoaccess.gov/nara/index.html.

A. Background

Rural roads account for approximately 40 percent of the vehicle miles traveled in the U.S., but almost 55 percent of fatalities. According to the latest data, 23,339 people were killed in rural crashes in 2006 and the fatality rate for rural crashes is more than twice the fatality rate in urban crashes. Over 75 percent of all U.S. road miles are rural, and of the over 3 million miles of rural roads, almost 80 percent are owned and operated by local entities. Head-on collisions are more frequent in rural areas, occurring about twice as often as in urban areas. Rural collector roads account for 31 percent of all rural road deaths, whereas urban collector roads account for only 8 percent of urban road deaths. Speeding is a common contributor to rural road deaths. Over 70 percent of the fatal crashes on high speed roadways (speed limit of 55 mph or higher) occurred in rural areas. The fatality rate per vehicle miles travel (VMT) on local roads is more than twice that of Interstates.

Getting infrastructure safety information and more effective countermeasure tools to State and local officials is critical to improving national rural road safety. There are over 3,000 counties and more than 16,000 towns and township governments in the U.S. that vary widely in the size of the engineering staff and their ability to design and implement infrastructure safety countermeasures on rural roads. Rural safety continues to be a significant national problem in the effort to reduce highway fatalities. Successful efforts to combat the rural safety problem require an interdisciplinary approach including engineering, enforcement, education and emergency medical services.

B. Funding

Currently, FHWA is proposing to use FY 2008 funds, drawn from available portions of the Delta Region Transportation Development Program, as well as the U.S. Department of Transportation Intelligent Transportation System (ITS) program for the Rural Safety Innovation Program. Each Federal funding source has unique criteria for eligible activities, eligible facilities/locations, and cost sharing that must be met. Awards will be made to rural projects that meet the eligibility criteria under one or both of these funding sources. Potential Applicants should review the eligibility requirements for each of the potential Federal funding sources described below before submitting an Application.

The FHWA's Delta Region Transportation Development Program supports and encourages multi-State transportation planning and corridor development, provides for transportation project development, facilitates transportation decisionmaking, and supports transportation construction on Federal-aid highways in the portions of the eight States comprising the Delta Regional Authority's region (Alabama, Arkansas, Illinois, Kentucky, Louisiana, Mississippi, Missouri, and Tennessee). Eligible projects must have the endorsement of the State Department of Transportation. Detailed information on Delta Region Transportation Development Program requirements can be found at http://www.fhwa.dot.gov/planning/1308drtdp.htm.

The U.S. Department of Transportation Intelligent Transportation Systems Program focuses on intelligent vehicles, intelligent infrastructure and the creation of an intelligent transportation system through integration with and between these two components. Further information on potential safety application of ITS in rural areas can be found at:

Safety Applications of ITS in Rural Areas— http://www.itsdocs.fhwa.dot.gov/jpodocs/repts_te/13609_files/Contents.htm.

DOT ITS Web page— http://www.its.dot.gov.

DOT Highway Safety Web page— http://safety.fhwa.dot.gov/.

Benefits information— http://www.itsbenefits.its.dot.gov/.

Cost information— http://www.itscosts.its.dot.gov/.

Lessons learned— http://www.itslessons.its.dot.gov/.

Deployment information— http://www.itsdeployment.its.dot.gov/SurveyOutline1.asp?SID=swcps.

FHWA research— http://www.tfhrc.gov/research.htm.

We anticipate funding of $15 million or more to be available for the Rural Safety Innovation Program, drawn from the programs described above. Successful projects will demonstrate application of innovative technologies and approaches with significant potential for improving safety on eligible rural roads through infrastructure and technology improvements. Applicants must provide the appropriate match for the Federal funding source proposed.

It is estimated that competitive awards will be made in the range of $200 thousand to $2 million per project. The range is established to allow applicants the flexibility to respond as quickly as possible with appropriate new projects requiring modest funding and resources, or higher cost projects which may already be in development. Given the great expanse of rural roads, innovative approaches that may offer possible safety benefits at low costs are encouraged. Specific evaluation criteria are identified below.

C. Application Process

The selection process consists of two phases: Submission of a Rural Safety Innovation Program Application, followed by an invitation to submit a formal Proposal in Phase II. Each phase is discussed below.

i. Phase I: The Rural Safety Innovation Program is geared toward entities responsible for rural roads and highways such as counties, towns, townships and Tribal governments partnering with State departments of transportation. Applicants interested in the Rural Safety Innovation Program should submit a Rural Safety Innovation Program Application to the DOT. The length of the Application should not exceed ten, single-spaced pages. The Application should, in general terms, describe the proposed Rural Safety Innovation Program Project including its location, general project description, design and implementation outline, financial plan, management and staffing plan as well as a proposed project schedule. The Applicant may be requested to submit additional information if more information is needed at this stage. The deadline for submitting an Application is April 14, 2008.

If the Applicant is accepted for the final competition (Phase II), the Applicant will be invited to submit a Rural Safety Innovation Program Proposal, discussed below. The DOT intends to announce qualified Phase I candidates of the Rural Safety Innovation Program in early April 2008.

ii. Phase II: Rural Safety Innovation Program Proposal

If an Applicant is invited to submit a Rural Safety Innovation Program Proposal, the Proposal should be received no later than June 20, 2008. The Proposal should also reflect the support of all Federal, State, Local, and Tribal governments that operate facilities which will be directly impacted by the proposed rural safety project. The DOT intends to announce the Proposals selected for funding in August 2008.

Applicants invited to participate in Phase II will be given detailed guidelines needed to develop their Proposal. At a minimum, the Proposal should include a detailed project description including goals, objectives, location, proposed countermeasures, and expected benefits, a design and implementation plan, a financial plan, and a management and staffing plan including a detailed project schedule/timeline.

D. Eligibility Information

i. Eligible applicants—The Rural Safety Innovation Program is geared toward entities responsible for rural roads and highways such as counties, towns, townships and Tribal governments partnering with State departments of transportation. Coordination of proposals with the State Highway Safety Office is strongly encouraged. Letters of commitment should be submitted from the chief executive from each participating jurisdiction. Applicants must meet the eligibility requirements for the Federal funding source being proposed. Refer to section B. for links to potential Federal funding sources. If partnering with a local jurisdiction, the DOT should designate a local/rural safety coordinator who should be identified in the proposal. The coordinator should leverage the knowledge gained from the project with other safety initiatives, resources and data to provide safety assistance to local/rural communities statewide. Funding for the coordinator activities may be part of the match or submitted as a cost of the project.

ii. Cost sharing or Matching—Federal funds should not exceed 80 percent of the total project costs. Each recipient is responsible for identifying a minimum 20 percent matching share from other non-Federal sources. Applicants are encouraged to solicit matching funds from multiple sources, including, State and local governments and private sector partners, as they will be considered as evidence of local partnership. Applicants must meet the matching requirements for the Federal funding source being proposed. Refer to section B. for links to potential Federal funding sources.

iii. Federal-aid Procedures—The projects will be administered through the FHWA Division Offices and the State DOTs in accordance with their stewardship and oversight agreements, and the practices and procedures for local Federal-aid projects in the State, as applicable. Federal-aid requirements will apply. Examples of Federal-aid requirements include, but are not limited to, the transportation planning process, National Environmental Policy Act, Uniform Relocation Assistance Act, Equal Employment Opportunity, and Disadvantaged Business Enterprise requirements.

E. Contents of Application for Phase I

The Application should address each of the following:

i. Content and Form of Application Submission—Each application should include a brief Project Description, Design and Implementation Plan, Financial Plan, and Management Plan that describes how the proposed objectives will be met within the specified time frame and budget.

These brief plans should contain the following information:

A. Project Description

Describe local area/jurisdiction where the project will take place as well as a brief description of the project being proposed to include: Goals, objectives, proposed countermeasures, and expected benefits. Project proposals should include a strong rationale supported by quantifiable, location-specific data from either local, State, or Federal sources that identify a clear problem set and how the proposed countermeasures would contribute as a potential solution.

The Department has identified a list of potential project types (below), for each crash category for consideration by applicants. Applications are not limited to these project types and innovative approaches are encouraged. However, projects should be consistent with the objectives of the Rural Safety Innovation Program.

1. Roadway Departure Crashes

• Dynamic curve warning systems.

• Advanced road departure warning systems.

• Innovative safety infrastructure improvements (i.e., cable guard rail, rumble strips and stripes).

2. Intersection and Pedestrian Crashes

• Intersection collision avoidance systems (i.e., sensors to provide oncoming traffic gap alerts, merge safety warnings, pedestrian and obstruction detection, variable safety signage).

• Innovative intersection treatments (i.e., roundabouts, continuous flow intersections).

3. Speeding Related Crashes

• Variable speed limit systems (with or without automated speed enforcement).

• Coordinated speed management systems.

4. Range of Crashes

• Roadway condition indicator/traveler information systems (i.e., ice detection/low friction, bridge deicing systems, poor visibility systems, road closure notification).

• Road side detection and warning systems.

• Work zone safety systems.

• Corridor safety applications.

• Innovative roadway safety data collection and analysis techniques.

• First Responder/Public Safety Services applications: Fire, Emergency Medical Services, Law Enforcement, HazMat, Towing, etc., that include vehicle tracking, automatic crash notification, telemedicine, and Wireless Enhanced 9-1-1 data transmission technologies.

B. Design and Implementation Outline

The Applicant should submit a brief statement outlining their potential Design and Implementation Plan. A detailed plan will only be required by those invited to submit a Proposal in Phase II.

C. Financial Plan

The Applicant should submit an initial plan that identifies potential sources of financing including the private partner's role, if applicable. Applicants must identify all funding and match sources being proposed, including the Federal funding source under this program. More than one Federal funding source may be identified if applicable. Refer to section B. for links to potential Federal funding sources.

D. Management and Staffing Plan

Describe briefly which organizations will lead the project, and how responsibilities for task completion will be shared among proposed project partners. The Application should also include a proposed project time-line with estimated start and completion dates for major elements of the proposed Rural Safety Innovation Program Project.

ii. Safety Benefits—The Applicant should provide a brief description of the potential safety benefits based on the countermeasures proposed.

iii. Evaluation of Rural Safety Innovation Program Projects—The Department will also coordinate the evaluation of the effectiveness of projects. An independent evaluation team will be hired by the Department to develop an evaluation plan, and to conduct and coordinate evaluation efforts. Funding recipients will be required to collect specified before and after data and information as a condition of receiving funding, and to facilitate the Department's evaluation efforts. Depending on the number of projects selected, the Department may conduct evaluations of only a subset of projects.

F. Evaluation Criteria

The Department has identified evaluation criteria that will be used to select Applications to advance to the Phase II—Proposal stage.

Main Evaluation Criteria

i. An active High Risk Rural Roads Program.

ii. An active Highway Safety Program that complements the proposed project, including enforcement, education and emergency medical services.

iii. Participation by the State Highway Safety Office.

iv. Ability to provide appropriate non-Federal match to Federal funds requested.

v. Ability to meet the criteria and requirements of the proposed Federal funding source. Refer to section B. for links to potential Federal funding sources.

vi. Sufficient data and analysis procedures to identify problem areas and appropriate countermeasures.

vii. Feasibility of proposal (risk level).

Additional Evaluation Criteria

i. Counties with highest number of rural fatalities.

ii. Demonstration of cost share with public and private sector partners to develop innovative and creative Rural Safety Innovation Program projects.

iii. Ability to demonstrate a significant benefit/cost ratio that will assist the Department in promoting rural safety throughout the United Sates.

iv. Relationship between percentage of rural roads owned and operated by local agencies and participation by these agencies.

v. Road Safety Audits used in project development and solutions.

vi. Use of market ready technologies (including ITS) and innovations for improving roadway safety.

vii. Inclusion of outreach and education plan (for both provider/user agencies and the public).

viii. Clarity and specificity of proposal.

ix. Qualifications and experience.

Issued on: February 21, 2008.
J. Richard Capka,
Federal Highway Administrator.

[FR Doc. E8-3716 Filed 2-28-08; 8:45 am]

BILLING CODE 4910-22-P